DEPARTMENT OF THE INTERIOR

National Park Service

Notice of Inventory Completion for Native American Human Remains in the Possession of the Tongass National Forest, USDA Forest Service, Ketchikan, AK

AGENCY: National Park Service, Interior.

ACTION: Notice.

Notice is hereby given in accordance with provisions of the Native American Graves Protection and Repatriation Act (NAGPRA), 43 CFR 10.9, of the completion of an inventory of human remains in the possession of Tongass National Forest, USDA Forest Service, Ketchikan, AK.

This notice is published as part of the National Park Service’s administrative responsibilities under NAGPRA, 43 CFR 10.2(c). The determinations within this notice are the sole responsibility of the museum, institution, or Federal agency that has control of these Native American human remains. The National Park Service is not responsible for the determinations within this notice.

A detailed assessment of the human remains was made by USDA Forest Service professional staff in consultation with representatives of the Cape Fox Corporation, representing the Saanya Kwaan Tlingit for the purposes of repatriation; Organized Village of Saxman; Sealaska Corporation; and Central Council of Tlingit & Haida Indian Tribes.

On August 13, 1981, human remains representing one individual were recovered by a USDA Forest Service employee from the beach in front of the Indian Point Village site, Revillagigedo Island, AK. The human remains, consisting of a single femur, were transferred to the USDA Forest Service area archeologist the next day. No associated funerary objects are present.

Morphometric analysis indicates the remains are from a Native American male. Ethnographic information indicates that Indian Point Village was settled by two families representing the Eagle and Killer-Whale clans within the traditional territory of the Saanya Kwaan Tlingit. Charlie Sehayett, also called Naha Charlie, Chief of the Eagle clan, is known to have been buried at the Indian Point Village site. The cemetery at Indian Point Village was vandalized prior to 1981. The Cape Fox Corporation has presented a claim for these remains on behalf of the lineal descendants of Charlie Sehayett and the Saanya Kwaan Tlingit.

Based on the above-mentioned information, officials of the USDA Forest Service have determined that, pursuant to 43 CFR 10.2 (d)(1), the human remains listed above represent the physical remains of one individual on Native American ancestry. Officials of the USDA Forest Service also have determined that, pursuant to 43 CFR 10.2 (e), there is a relationship of shared group identity that can be reasonably traced between these human remains and the Cape Fox Corporation, representing the Saanya Kwaan Tlingit.

This notice has been sent to officials of the Cape Fox Corporation, Organized Village of Saxman, Sealaska Corporation, and Central Council of Tlingit & Haida Indian Tribes. Representatives of any other Indian tribe that believes itself to be culturally affiliated with these human remains should contact Tom Puchlerz, Forest Supervisor, Tongass National Forest, Federal Building, Ketchikan, AK 99901, telephone (907) 225-3101, before October 11, 2002. Repatriation of the human remains to the Cape Fox Corporation, representing the Saanya Kwaan Tlingit, may begin after that date if no additional claimants come forward.

Dated: August 12, 2002.
Robert Stearns,
Manager, National NAGPRA Program.

[FR Doc. 02-23021 Filed 9-10-02; 8:45 am]

BILLING CODE 4310-70-S